DEPARTMENT OF TRANSPORTATION

Coast Guard

33 CFR Part 117

[CGD01-02-076]

Drawbridge Operation Regulations: Eastchester Creek, NY

AGENCY: Coast Guard, DOT.

ACTION: Notice of temporary deviation from regulations.

SUMMARY: The Commander, First Coast Guard District, has issued a temporary deviation from the drawbridge operation regulations governing the operation of the South Fulton Avenue Bridge, mile 2.9, across Eastchester Creek in New York. This deviation allows the bridge owner to keep the bridge in the closed position from 8 a.m. on Monday through 4:30 p.m. on Thursday, from July 22, 2002 through August 22, 2002. This action is necessary to facilitate structural maintenance on the bridge.

DATES: This deviation is effective from July 22, 2002 through August 22, 2002.

FOR FURTHER INFORMATION CONTACT: Joseph Schmied, Project Officer, First Coast Guard District, at (212) 668-7165.

SUPPLEMENTARY INFORMATION: The South Fulton Avenue Bridge has a vertical clearance of 6 feet at mean high water, and 13 feet at mean low water in the closed position. The existing drawbridge operating regulations are listed at 33 CFR 117.793.

The bridge owner, Westchester County Department of Public Works, requested a temporary deviation from the drawbridge operating regulations to facilitate scheduled structural maintenance, sidewalk replacement, at the bridge.

This deviation from the operating regulations allows the bridge owner to keep the bridge in the closed position from 8 a.m. on Monday through 4:30 p.m. on Thursday, July 22, 2002 through August 22, 2002.

This work is authorized under 33 CFR 117.35, and will be performed with all due speed in order to return the bridge to normal operation as soon as possible.

Dated: June 25, 2002.
V.S. Crea,
Rear Admiral, U.S. Coast Guard, Commander, First Coast Guard District.

[FR Doc. 02-17005 Filed 7-5-02; 8:45 am]

BILLING CODE 4910-15-P